DEPARTMENT OF DEFENSE

Defense Threat Reduction Agency; Privacy Act of 1974; Systems of Records

AGENCY: Defense Threat Reduction Agency.

ACTION: Notice to Amend a System of Records; HDTRA 019—Treaty Inspection Information Management System.

SUMMARY: The Defense Threat Reduction Agency is amending a system of records notice to its existing inventory of record systems subject to the Privacy Act of 1974 (5 U.S.C. 552a), as amended.

DATES: This action will be effective without further notice on September 2, 2005 unless comments are received that would result in a contrary determination.

ADDRESSES: Send comments to the Freedom of Information Act/Privacy Act Officer, Defense Threat Reduction, 8725 John J. Kingman Road, Stop 6201, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 27, 2005.
Jeannette Owings-Ballard,
OSD Federal Register Liaison Officer, Department of Defense.

HDTRA 019

System name:

Treaty Inspection Information Management System (December 14, 1998, 63 FR 68736).

Changes:

System location:

Delete entry and replace with “Defense Threat Reduction Agency, Room 0620, 8725 John J. Kingman Rd, VA 22060-6201''.

Categories of records in the system:

Delete from entry “marital status” and “years of federal service''.

* * * * *

Retrievability:

Add to entry “title” and “personnel type''

* * * * *

System manager(s) and address:

Delete entry and replace with “Treaty Inspection Information Management System Administrator, Information Technology Division, Defense Threat Reduction Agency, Room 0620, 8725 John J. Kingman Rd, VA 22060-6201''

Notification procedure:

Delete address and replace with “General Counsel, Defense Threat Reduction Agency, 8725 John J. Kingman Drive, Ft. Belvoir, VA 22060-6201''

Record access procedures:

Delete address and replace with “General Counsel, Defense Threat Reduction Agency, 8725 John J. Kingman Drive, Ft. Belvoir, VA 22060-6201''.

Contesting record procedures:

Delete “DTRA Instruction 5400.11B” and replace with “DTRA Instruction 5400.11” Delete address and replace with “General Counsel, Defense Threat Reduction Agency, 8725 John J. Kingman Drive, Ft. Belvoir, VA 22060-6201''.

* * * * *

HDTRA 019

System name:

Treaty Inspection Information Management System.

System location:

Defense Threat Reduction Agency, Room 0620, 8725 John J. Kingman Rd, VA 22060-6201.

Categories of individuals covered by the system:

Individuals affiliated with the Defense Threat Reduction Agency, either by military assignment, civilian employment, or contractual support agreement. Individuals are weapons inspectors, linguists, mission schedulers/planners, personnel assistants/specialists, portal rotation specialists, operation technicians, passport managers, clerical staff, and database management specialists.

Categories of records in the system:

Information includes individual's name, Social Security Number, date of birth, city/state/country of birth, education, gender, race, civilian or military member, rank (if military), security clearance, occupational category, job organization and location, and emergency locator information.

Authority for maintenance of the system:

5 U.S.C. 301, Departmental Regulations; 5 U.S.C. 302, 4103; Pub. L. 89-554 (September 6, 1966); and E.O. 9397 (SSN).

Purpose(s):

To manage the Treaty Monitoring and Inspection activities, including personnel resources, manpower/billet management, passport status, mission scheduling and planning, inspection team composition, inspector and transport list management, inspector training, and inspection notification generation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of DTRA's compilation of systems of records notices apply to this system.

Policies and practices for storing, retrieving, accessing, retaining, and disposing of records in the system:

Storage:

Maintained on computer and computer output products.

Retrievability:

Records may be retrieved by name or Social Security Number, title, and personnel type.

Safeguards:

Records are stored in a computer system with extensive intrusion safeguards.

Retention and disposal:

Records are maintained for as long as the individual is assigned to DTRA. Upon departure from DTRA, records concerning that individual are removed from the active file and retained in an inactive file for ten years. Information that has been held in the inactive file for ten years is deleted.

System manager(s) and address:

Treaty Inspection Information Management System Administrator, Information Technology Division, Defense Threat Reduction Agency, Room 0620, 8725 John J. Kingman Rd, VA 22060-6201.

Notification procedure:

Individuals seeking to determine whether information about themselves is contained in this system should address written inquiries to the General Counsel, Defense Threat Reduction Agency, Room 0620, 8725 John J. Kingman Rd, VA 22060-6201.

The inquiry should include full name and Social Security Number.

Record access procedures:

Individuals seeking access to information about themselves contained in this system should address written inquiries to the General Counsel, Defense Threat Reduction Agency, 8725 John J. Kingman Drive, Ft. Belvoir, VA 22060-6201. The inquiry must include full name and Social Security Number.

Contesting record procedures:

The DTRA rules for accessing records and for contesting contents and appealing initial agency determinations are published in DTRA Instruction 5400.11; 32 CFR part 318; or may be obtained from the General Counsel, Defense Threat Reduction Agency, 8725 John J. Kingman Drive, Ft. Belvoir, VA 22060-6201.

Record source categories:

Information is provided by the individual, obtained from other personnel record sources, and from the individual's superiors and assignment personnel.

Exemptions claimed for the system:

None.

[FR Doc. 05-15358 Filed 8-2-05; 8:45 am]

BILLING CODE 5001-06-P